POSTAL REGULATORY COMMISSION

Facility Tours

AGENCY: Postal Regulatory Commission.

ACTION: Notice of Commission Tours.

SUMMARY: Postal Regulatory Commissioners and advisory staff members will tour the Valpak Manufacturing Center in St. Petersburg, Florida on January 14, 2008, and the GameFly plant in Tampa, Florida on January 15, 2008. The purpose is to observe and discuss mailing operations.

DATES: January 14-15, 2008.

FOR FURTHER INFORMATION CONTACT: Ann Fisher, Chief of Staff, Postal Regulatory Commission, 202-789-6803.

Steven W. Williams,
Secretary.

[FR Doc. E8-394 Filed 1-11-08; 8:45 am]

BILLING CODE 7710-FW-P